DEPARTMENT OF COMMERCE

International Trade Administration

[A-122-863]

Large Diameter Welded Pipe From Canada: Preliminary Results and Rescission, in Part, of Antidumping Duty Administrative Review; 2022-2023

AGENCY: Enforcement and Compliance, International Trade Administration, Department of Commerce.

SUMMARY: The U.S. Department of Commerce (Commerce) preliminarily finds that large diameter welded pipe (LDWP) from Canada was sold in the United States at less than normal value (NV) during the period of review (POR) of May 1, 2022, through April 30, 2023. Additionally, Commerce is rescinding this administrative review, in part, with respect to certain companies that had no entries of subject merchandise during the POR. We invite interested parties to comment on these preliminary results.

DATES: Applicable May 21, 2024.

FOR FURTHER INFORMATION CONTACT: Caroline Carroll, AD/CVD Operations, Office IX, Enforcement and Compliance, International Trade Administration, U.S. Department of Commerce, 1401 Constitution Avenue NW, Washington, DC 20230; telephone: (202) 482-4948.

SUPPLEMENTARY INFORMATION:

Background

On May 2, 2019, Commerce published in the Federal Register the antidumping duty order on LDWP from Canada.¹ On May 2, 2023, Commerce published in the Federal Register a notice of opportunity to request an administrative review of the Order.² On July 12, 2023, based on timely requests for review, in accordance with 19 CFR 351.221(c)(1)(i), we initiated an administrative review of the Order covering 40 exporters and/or producers.³ We selected Pipe & Piling as the sole mandatory respondent in this administrative review.⁴ Commerce extended the time limit for completing the preliminary results of this review until May 10, 2024.⁵

¹ See Large Diameter Welded Pipe from Canada: Antidumping Duty Order, 84 FR 18775 (May 2, 2019) (Order).

² See Antidumping or Countervailing Duty Order, Finding, or Suspended Investigation; Opportunity to Request Administrative Review and Join Annual Inquiry Service List, 88 FR 27445 (May 2, 2023).

³ See Initiation of Antidumping and Countervailing Duty Administrative Reviews, 88 FR 44262 (July 12, 2023); see also Initiation of Antidumping and Countervailing Duty Administrative Reviews, 88 FR 62322 (September 11, 2023) (Initiation Notice) (correcting the spelling of the name of one company under review). We note that Commerce initiated reviews on two name variations for Pipe & Piling Supplies Ltd. (Pipe & Piling): Pipe & Piling Sply Ltd.; and Pipe & Piling Supplies.

⁴ See Commerce's Letter, “Respondent Selection,” dated August 7, 2023.

⁵ See Memorandum, “Extension of Deadline for Preliminary Results of 2022-2023 Antidumping Duty Administrative Review,” dated January 11, 2024.

Scope of the Order

The product subject to the Order is LDWP from Canada. A complete description of the scope of the Order is contained in the Preliminary Decision Memorandum.⁶

⁶ See Memorandum, “Decision Memorandum for the Preliminary Results of the Administrative Review of the Antidumping Duty Order of Large Diameter Welded Pipe from Canada; 2022-2023,” dated concurrently with, and hereby adopted by, this notice (Preliminary Decision Memorandum).

Methodology

Commerce is conducting this review in accordance with sections 751(a)(1)(B) and (2) of the Tariff Act of 1930, as amended (the Act). Pursuant to sections 776(a) and (b) of the Act, Commerce preliminarily relied entirely upon facts otherwise available with adverse inferences for Pipe & Piling.

For a complete description of the methodology underlying our conclusions, see the Preliminary Decision Memorandum. A list of topics discussed in the Preliminary Decision Memorandum is attached in Appendix I of this notice. The Preliminary Decision Memorandum is a public document and is on file electronically via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Rescission of Review, in Part

Pursuant to 19 CFR 351.213(d)(3), it is Commerce's practice to rescind an administrative review of an antidumping duty order when there are no reviewable entries of subject merchandise during the POR for which liquidation is suspended.⁷ Normally, upon completion of an administrative review, the suspended entries are liquidated at the antidumping duty assessment rate calculated for the review period.⁸ Therefore, for an administrative review to be conducted, there must be at least one reviewable, suspended entry that Commerce can instruct U.S. Customs and Border Protection (CBP) to liquidate at the antidumping duty assessment rate calculated for the review period.⁹ Because there were no entries in the CBP data for the 38 companies listed in Appendix II, on December 21, 2023, Commerce notified all interested parties of its intent to rescind this review, in part, with respect to these companies and received no comments.¹⁰ Accordingly, Commerce is rescinding this review, in part, with respect to these 38 companies.

⁷ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

⁸ See 19 CFR 351.212(b)(1).

⁹ See 19 CFR 351.213(d)(3).

¹⁰ See Memorandum, “Notice of Intent to Rescind Review, in Part,” dated December 21, 2023.

Preliminary Affiliation and Collapsing Determination

Based on record evidence in this review, Commerce preliminarily finds that the following companies are affiliated, pursuant to section 771(33)(F) of the Act: Pipe & Piling; 1045761 Ontario Ltd. (Operated as Canadian Phoenix Steel Products) (Phoenix); and Spiralco Inc. (Spiralco). Furthermore, pursuant to 19 CFR 351.401(f)(1)-(2), we find that Pipe & Piling Supplies Ltd., Phoenix, and Spiralco should be collapsed and treated as a single entity (collectively, Pipe & Piling).¹¹

¹¹ See Memorandum, “Preliminary Affiliation and Collapsing Memorandum,” dated December 8, 2023 (Affiliation and Collapsing Memorandum), for further discussion.

Preliminary Results of Review

Commerce preliminarily determines that the following estimated weighted-average dumping margin exists for the period May 1, 2022, through April 30, 2023:

Producer and/or exporter | Weighted- average dumping margin (percent)
Pipe & Piling Supplies Ltd.; 1045761 Ontario Ltd.; Spiralco Inc | 50.89

Disclosure

Normally, Commerce discloses to interested parties the calculations performed in connection with the preliminary results within five days of any public announcement or, if there is no public announcement, within five days of the date of publication of the notice of preliminary results in the Federal Register, in accordance with 19 CFR 351.224(b). However, because Commerce preliminarily applied total adverse facts available to the sole mandatory respondent, in accordance with section 776 of the Act, there are no calculations to disclose.

Public Comment

Pursuant to 19 CFR 351.309(c), interested parties may submit case briefs to Commerce no later than 30 days after the date of publication of this notice.¹² Rebuttal briefs, limited to issues raised in the case briefs, may be filed no later than five days after the date for filing case briefs.¹³ Interested parties who submit case briefs or rebuttal briefs in this proceeding must submit: (1) a table of contents listing each issue; and (2) a table of authorities.¹⁴ All briefs must be filed electronically using ACCESS. An electronically filed document must be received successfully in its entirety in ACCESS by 5:00 p.m. Eastern Time on the established deadline.

¹² See 19 CFR 351.303 (for general filing requirements).

¹³ See 19 CFR 351.309(d); see also Administrative Protective Order, Service, and Other Procedures in Antidumping and Countervailing Duty Proceedings, 88 FR 67069, 67077 (September 29, 2023) (APO and Service Final Rule).

¹⁴ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁵ Further, we request that interested parties limit their public executive summary of each issue to no more than 450 words, not including citations. We intend to use the public executive summaries as the basis of the comment summaries included in the issues and decision memorandum that will accompany the final determination in this review. We request that interested parties include footnotes for relevant citations in the public executive summary of each issue. Note that Commerce has amended certain of its requirements pertaining to the service of documents in 19 CFR 351.303(f).¹⁶

¹⁵ We use the term “issue” here to describe an argument that Commerce would normally address in a comment of the Issues and Decision Memorandum.

¹⁶ See APO and Service Final Rule.

Pursuant to 19 CFR 351.310(c), interested parties who wish to request a hearing must submit a written request to the Assistant Secretary for Enforcement and Compliance, filed electronically via ACCESS, by 5 p.m. Eastern time, within 30 days after the date of publication of this notice. Requests should contain: (1) the party's name, address, and telephone number; (2) the number of participants; and (3) a list of issues to be discussed. Issues raised in the hearing will be limited to those raised in the respective case briefs. If a request for a hearing is made, Commerce will inform interested parties of the scheduled date for the hearing.¹⁷

¹⁷ See 19 CFR 351.310(d).

Assessment Rates

Upon completion of the final results, Commerce shall determine and CBP shall assess, antidumping duties on all appropriate entries covered by this review.¹⁸

¹⁸ See 19 CFR 351.212(b)(1).

With respect to the companies for which are rescinding this review, Commerce intends to instruct CBP to assess antidumping duties on all appropriate entries at rates equal to the cash deposit rate of estimated antidumping duties required at the time of entry, or withdrawal from warehouse, for consumption, during the POR, in accordance with 19 CFR 351.212(c)(1)(i).

Commerce intends to issue assessment instructions to CBP no earlier than 41 days after the date of publication of the final results of this review in the Federal Register, in accordance with 19 CFR 356.8(a). If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the date of publication in the Federal Register of the notice of final results of administrative review, as provided by section 751(a)(2)(C) of the Act: (1) the cash deposit rate for Pipe & Piling will be equal to the weighted-average dumping margin established in the final results of this review; (2) for merchandise exported by a company not covered in this review but covered in a prior segment of the proceeding, the cash deposit rate will continue to be the company-specific rate published for the most recently completed segment in which they were reviewed; (3) if the exporter is not a firm covered in this review or another completed segment of this proceeding, but the producer is, then the cash deposit rate will be the company-specific rate established for the completed segment for the most recent period for the producer of the merchandise; and (4) the cash deposit rate for all other producers or exporters will continue to be 12.32 percent, the all-others rate established in the final determination of the less-than-fair value investigation.¹⁹ These cash deposit requirements, when imposed, shall remain in effect until further notice.

¹⁹ See Order, 85 FR at 18776.

Final Results of Review

Unless the deadline is otherwise extended, Commerce intends to issue the final results of this administrative review, including the results of its analysis of the issues raised by interested parties in written briefs, within 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these preliminary results in accordance with sections 751(a)(1)(B) and 777(i)(1) of the Act, and 19 CFR 351.213(h) and 351.221(b)(4).

Dated: May 10, 2024.
Ryan Majerus,
Deputy Assistant Secretary for Policy and Negotiations, performing the non-exclusive functions and duties of the Assistant Secretary for Enforcement and Compliance.

Appendix I—List of Topics Discussed in the Preliminary Decision Memorandum

I. Summary

II. Background

III. Scope of the Order

IV. Application of Facts Available and Use of Adverse Inference

V. Recommendation

Appendix II—Companies for Which Commerce Is Rescinding the Review

1. Acier Profile SBB Inc.

2. Aciers Lague Steels Inc.

3. Amdor Inc.

4. BPC Services Group

5. Bri-Steel Manufacturing

6. Canada Culvert

7. Canadian National Steel Corporation (CNSC); Evraz Inc. NA Canada (EICA); Evraz Inc. NA

8. Canam (St Gedeon)

9. Cappco Tubular Products Canada Inc.

10. CFI Metal Inc.

11. Dominion Pipe & Piling

12. Enduro Canada Pipeline Services

13. Fi Oilfield Services Canada

14. Forterra

15. Gchem Ltd.

16. Graham Construction

17. Groupe Fordia Inc.

18. Grupo Fordia Inc.

19. Hodgson Custom Rolling

20. Hyprescon Inc.

21. Interpipe Inc.

22. K K Recycling Services

23. Kobelt Manufacturing Co.

24. Labrie Environment

25. Les Aciers Sofatec

26. Lorenz Conveying P.

27. Lorenz Conveying Products

28. Matrix Manufacturing

29. MBI Produits De Forge

30. Nor Arc

31. Peak Drilling Ltd.

32. Pipe Protecction

33. Prudental

34. Prudential

35. Shaw Pipe Protection

36. Tenaris Algoma Tubes Facility

37. Tenaris Prudential

38. Welded Tube of Can Ltd.

[FR Doc. 2024-11126 Filed 5-20-24; 8:45 am]

BILLING CODE 3510-DS-P